DEPARTMENT OF AGRICULTURE

Food and Nutrition Service

Agency Information Collection Activities: Proposed Collection; Comment Request; Food Stamp Program Redemption Certificate, Form FNS-278B and Food Stamp Program Wholesaler Redemption Certificate, Form FNS-278-4

AGENCY: Food and Nutrition Service (FNS), USDA.

ACTION: Notice.

SUMMARY: In accordance with the Paperwork Reduction Act of 1995, this notice invites the general public and other public agencies to comment on proposed information collections. The proposed collection is a revision of a currently approved collection.

DATES: Written comments must be received on or before June 23, 2008 to be assured of consideration.

ADDRESSES: Comments are invited on: (a) Whether the proposed collection of information is necessary for the proper performance of the functions of the agency, including whether the information will have practical utility; (b) the accuracy of the agency's estimate of the burden of the proposed collection of information, including the validity of the methodology and assumptions used; (c) ways to enhance the quality, utility, and clarity of the information to be collected; and (d) ways to minimize the burden of the collection of information on those who are to respond, including the use of appropriate automated, electronic, mechanical, or other technological collection techniques or other forms of information technology.

Comments may be sent to Lindy Haffey, Acting Chief, Retailer Operations Branch, Benefit Redemption Division, Food and Nutrition Service, U. S. Department of Agriculture, 3101 Park Center Drive, Room 403, Alexandria, VA 22302. Comments may also be submitted via fax to the attention of Lindy Haffey at (703) 305-2523 or via e-mail to: brdhq-web@fns.usda.gov.

All written comments will be open for public inspection at the office of the Food and Nutrition Service during regular business hours (8:30 a.m. to 5 p.m., Monday through Friday) at 3101 Park Center Drive, Alexandria, Virginia 22302, Room 403.

All responses to this notice will be summarized and included in the request for Office of Management and Budget (OMB) approval. All comments will be a matter of public record.

FOR FURTHER INFORMATION CONTACT: Requests for additional information or copies of this information collection should be directed to Lindy Haffey, (703) 305-2523.

SUPPLEMENTARY INFORMATION: Title: Food Stamp Redemption Certificate.

OMB Number: 0584-0085.

Form Number: FNS-278B and FNS-278-4.

Expiration Date: July 31, 2008.

Type of Request: Revision of a currently approved collection of information.

Abstract: The Food Stamp Act of 1977, as amended, Section 10, (7 U.S.C. 2019) states that regulations issued pursuant to the Act shall provide for the redemption of coupons accepted by retail food stores and wholesale food concerns or through selected financial institutions.

FNS provides for this redemption in 7 CFR 278.2 through 278.5. Section 278.4 outlines the procedure for redeeming coupons for wholesale food concerns retail stores. Form FNS-278B, Food Stamp Redemption Certificate, and Form FNS-278-4, Wholesaler Redemption Certificates, collectively called RCs, are required to be used by all authorized wholesalers or retailers, and are processed by financial institutions when they are presented for cash or credit. Requirements in the Food Stamp Program regulations are the basis for the information collected on Form FNS-278B, Food Stamp Redemption Certificate, and Form FNS-278-4, Wholesaler Redemption Certificate.

The proposed revision to the information collection burden associated with this form is derived from a reduction in the number of RCs submitted by program respondents. The number of responses also declined as FNS phased-out the issuance of paper food coupons; and as the number of States with Electronic Benefit Transfer (EBT) systems increased nationwide. Currently, 100 percent of all food stamp benefits are issued electronically. Some paper food coupons remain in circulation, however, as they were issued before EBT was fully implemented in each of the States. Because there is not an expiration date on food coupons, recipients who were previously issued paper food coupons can use the benefits they have until they are spent. Likewise, retailers must also continue to accept paper food coupons as a form of payment, and the Federal government must continue to honor them as legal tender. Currently, there is a legislative proposal to de-obligate the paper food coupon but until legislation is passed, paper food coupons do not expire.

FNS is seeking approval not to display the expiration date of the information collection because it is impractical and not cost efficient to incur expenses for a form that hasn't been used since our last submission to OMB (Form FNS-278-4), or for one thats use is rapidly declining (Form FNS-278B). There are no sensitive questions of private or personal nature involved in this information collection. All data collected concerns food stamp deposits within the banking system.

For this information collection package, the estimated reduction of respondents is based on a projected decrease in the number of RCs submitted as a result of fewer paper food coupons remaining in circulation. The estimated burden hours are 28.60442 hours.

Respondents: Businesses, wholesale food concerns, or other not-for-profit financial institutions.

Estimated Average Number of Respondents: 385.95723.

Estimated Annual Number of Responses per Respondent: 4.3033369.

Estimated Total Average Annual Responses: 1,660.904.

Estimate of Burden: Public reporting burden for this collection of information is estimated to average .0172222 hours per response.

Estimated Total Average Annual Burden: 28.660442 hours.

Dated: April 14, 2008.
Roberto Salazar,
Administrator, Food and Nutrition Service.

[FR Doc. E8-8835 Filed 4-22-08; 8:45 am]

BILLING CODE 3410-30-P